DEPARTMENT OF TRANSPORTATION

Federal Aviation Administration

14 CFR Part 73

[Docket No. FAA-2018-0103; Airspace Docket No. 18-ASO-1]

RIN 2120-AA66

Amendment of Restricted Areas R-2907C; Lake George, FL, R-2910B, R-2910C, and R-2910E; Pinecastle, FL

AGENCY: Federal Aviation Administration (FAA), DOT.

ACTION: Final rule; technical amendment; correction.

SUMMARY: This action corrects a final rule, technical amendment published in the Federal Register on March 13, 2018 that incorrectly stated the location of restricted area R-2907C in Florida.

DATES: Effective date 0901 UTC, May 24, 2018.

FOR FURTHER INFORMATION CONTACT: Paul Gallant, Airspace Policy Group, Office of Airspace Services, Federal Aviation Administration, 800 Independence Avenue SW, Washington, DC 20591; telephone: (202) 267-8783.

SUPPLEMENTARY INFORMATION:

History

The FAA published a final rule, technical amendment in the Federal Register for Docket No. FAA-2018-0103 (83 FR 10784; March 13, 2018). The final rule, technical amendment updated the controlling agency information of four restricted areas (R-2907C, R-2910B, R-2910C, and R-2910E) in Florida. Subsequent to publication, the FAA determined that the location of R-2907C was incorrectly stated as “Pinecastle, FL” instead of “Lake George, FL.” This correction inserts “Lake George, FL” at all references to restricted area R-2907C.

Correction to Final Rule

Accordingly, pursuant to the authority delegated to me, in the Federal Register of March 13, 2018 (83 FR 10784) FR Doc. 2018-05041, Amendment of Restricted Areas R-2907C, R-2910B, R-2910C, and R-2910E; Pinecastle, FL, is corrected as follows:

On page 10784, column 1, line 26, in the subject heading, after the word R-2907C, insert “Lake George, FL,”. On page 10784, column 1, line 34, under SUMMARY, after the word R-2907C, insert “Lake George, FL,”. On page 10784, column 2, line 13, under Authority for this rulemaking, after the word R-2907C, insert ” Lake George, FL,”. On page 10784, column 2, line 20, under The Rule, after the word R-2907C, insert “Lake George, FL,”. On page 10784, column 2, line 66, and column 3, line 17, under Environmental Review, after the word R-2907C, insert “Lake George, FL,”.

§ 73.29 [Amended]

On page 10784, column 3, line 51 correct the location of R-2907C to read as follows:

R-2907C Lake George, FL [Corrected]

Issued in Washington, DC, on March 28, 2018.
Rodger A. Dean, Jr.,
Manager, Airspace Policy Group.

[FR Doc. 2018-06746 Filed 4-2-18; 8:45 am]

BILLING CODE 4910-13-P